DEPARTMENT OF ENERGY

Federal Energy Regulatory Commission

[Project No. 2589-057]

Marquette Board of Light and Power; Notice of Intent To Prepare an Environmental Document and Soliciting Comments

December 2, 2009.

Take notice that the following material addressing dam safety repairs has been filed with the Commission and is available for public inspection:

a. Filing: Environmental report to support the repair of the Tourist Park Dam in order to restore Tourist Park Reservoir and operation of the Tourist Park Development under Part 12 of the Commission's regulations.

b. Project No: 2589-057.

c. Date Filed: September 17, 2009.

d. Licensee: Marquette Board of Light and Power.

e. Name of Project: Marquette Hydroelectric Project.

f. Location: The Marquette Hydroelectric Project is located on the Dead River in the City of Marquette, Marquette County, Michigan.

g. Filed Pursuant to: Federal Power Act, 16 U.S.C. 791a-825r.

h. Licensee Contact: Eric Booth, Manager of Utility Compliance, Marquette Board of Light and Power, 2200 Wright Street, Marquette, MI 49855-1398, (906) 228-0335.

i. FERC Contact: Rachel Price, (202) 502-8907, and e-mail: rachel.price@ferc.gov.

j. Deadline for filing comments: January 19, 2010.

All documents should be filed with: Kimberly D. Bose, Secretary, Federal Energy Regulatory Commission, 888 First Street, NE., Washington, DC 20426. Comments may be filed electronically via the Internet, see 18 CFR 385.2001 (a)(1)(iii) and the instructions on the Commission's Web site under the “e-filing” link. The Commission strongly encourages electronic filings. In lieu of electronic filing, an original and eight copies of all documents may be mailed to the Secretary at the address above.

k. Description of material: Marquette Board of Light and Power has filed an Environmental Report in support of its plan to repair the Tourist Park Dam at the Tourist Park Development, part of the Marquette Hydroelectric Project (FERC No. 2589). The project consists of two separate developments: Forestville and Tourist Park. The proposed work at the Tourist Park Dam would take place within the Tourist Park Development which is the most downstream of the two developments on the Dead River. The Tourist Park Reservoir is operated in a non-peaking mode to re-regulate flows released from the upstream Forestville Development. In May of 2003, the Silver Lake Storage Reservoir, part of the upstream Dead River Project (FERC No. 10855), experienced a breach which resulted in the release of large quantities of water. The resultant high flows reached the Tourist Park Dam, crested the natural right abutment of the dam, and caused the wash out of the dam abutment which resulted in the release of the Tourist Park Reservoir. Since the time of the breach the development has not been operational. In order to restore the Tourist Park Reservoir and return the development to operational conditions as licensed, the licensee plans to repair the dam by constructing an un-gated concrete ogee spillway within the breach channel. In addition, the licensee plans to construct right and left retaining walls and a new embankment with the existing and new core walls. During construction activities, some recreational use of the development may be limited due to traffic and public safety concerns. Following repair of the dam, the licensee plans to refill the Tourist Park Reservoir and operate the development as licensed.

The Commission intends to prepare an environmental document under the National Environmental Policy Act (NEPA) for the planned Tourist Park Dam repair. The NEPA document will be used by the Commission to identify environmental impacts and to identify measures that would help mitigate the impacts caused by the activities associated with the dam repair.

l. Locations of the Filing: A copy of the filing is available for inspection and reproduction at the Commission's Public Reference Room, located at 888 First Street, NE., Room 2A, Washington, DC 20426. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659.

m. Individuals desiring to be included on the Commission's mailing list should so indicate by writing to the Secretary of the Commission.

n. Comments: Anyone may submit comments on the material described in this notice. In completing its environmental review, the Commission will consider all comments filed. Any comments must be received on or before deadline for filing comments specified above.

o. Any filing made with the Commission in response to this notice must bear in all capital letters the title “COMMENTS” and the Project Number: P-2589-057.

p. Agency Comments: Federal, State, and local agencies are invited to file comments on the material described in this notice. A copy of the filing may be obtained by agencies directly from the licensee. If an agency does not file comments within the time specified for filing comments, it will be presumed to have no comments. One copy of an agency's comments must also be sent to the licensee's representatives.

q. Comments may be filed electronically via the Internet in lieu of paper. See, 18 CFR 385.2001(a)(1)(iii) and the instructions on the Commission's Web site at http://www.ferc.gov under the “e-Filing” link.

Kimberly D. Bose,
Secretary.

[FR Doc. E9-29283 Filed 12-8-09; 8:45 am]

BILLING CODE 6717-01-P